SECURITIES AND EXCHANGE COMMISSION

[Release No. 34-71914A; File No. SR-ISE-2014-20]

Self-Regulatory Organizations; International Securities Exchange, LLC; Notice of Filing and Immediate Effectiveness of Proposed Rule Change To Amend the Schedule of Fees; Correction

April 9, 2014.

AGENCY: Securities and Exchange Commission.

ACTION: Notice; correction.

SUMMARY: The Securities and Exchange Commission published a document in the Federal Register of April 15, 2014 concerning a Notice of Filing and Immediate Effectiveness of Proposed Rule Change to Amend the Schedule of Fees. The date on which the International Securities Exchange, LLC filed the proposed rule change with the Securities and Exchange Commission was incorrectly stated.

Correction

In FR Document No. 2014-08417 beginning on page 21321 for Tuesday, April 15, 2014, the date on which the International Securities Exchange, LLC filed with the Securities and Exchange Commission the proposed rule change was incorrectly stated on page 21321, in the 53rd line of the third column. The correct date is April 1, 2014.

Kevin M. O'Neill,
Deputy Secretary.

[FR Doc. 2014-08971 Filed 4-18-14; 8:45 am]

BILLING CODE 8011-01-P